INTERNATIONAL TRADE COMMISSION

[Investigation Nos. 731-TA-1202-03 (Final)]

Xanthan Gum From Austria and China

Determinations

On the basis of the record ¹ developed in the subject investigations, the United States International Trade Commission (Commission) determines, pursuant to section 735(b) of the Tariff Act of 1930 (19 U.S.C. 1673d(b)) (the Act), that an industry in the United States is not materially injured or threatened with material injury by reason of imports from Austria of xanthan gum provided for in subheading 3913.90.20 of the Harmonized Tariff Schedule of the United States, that have been found by the Department of Commerce (Commerce) to be sold in the United States at less than fair value.

¹ The record is defined in sec. 207.2(f) of the Commission's Rules of Practice and Procedure (19 CFR 207.2(f)).

The Commission also determines, pursuant to section 735(b) of the Tariff Act of 1930 (19 U.S.C. 1673d(b)) (the Act), that an industry in the United States is threatened with material injury by reason of imports from China of xanthan gum provided for in subheading 3913.90.20 of the Harmonized Tariff Schedule of the United States, that have been found by Commerce to be sold in the United States at less than fair value.²

² Commissioner Dean A. Pinkert and Commissioner Meredith M. Broadbent determine that an industry in the United States is materially injured by reason of imports from China of xanthan gum.

Background

The Commission instituted these investigations effective June 5, 2012, following receipt of a petition filed with the Commission and Commerce by CP Kelco U.S., Atlanta, Georgia. The final phase of the investigations was scheduled by the Commission following notification of preliminary determinations by Commerce that imports of xanthan gum from Austria and China were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of February 27, 2013 (78 FR 13379). The hearing was held in Washington, DC, on May 23, 2013, and all persons who requested the opportunity were permitted to appear in person or by counsel.

The Commission transmitted its determinations in these investigations to the Secretary of Commerce on July 12, 2013. The views of the Commission are contained in USITC Publication 4411 (July 2013), entitled Xanthan Gum From Austria and China: Investigation Nos. 1202-03 (Final).

Issued: July 16, 2013.
By order of the Commission.
Lisa R. Barton,
Acting Secretary to the Commission.

[FR Doc. 2013-17344 Filed 7-18-13; 8:45 am]

BILLING CODE 7020-02-P